DEPARTMENT OF DEFENSE

Department of the Air Force

Notice of Intent To Prepare an Environmental Impact Statement for the Air Force Reserve Command F-35A Operational Beddown

AGENCY: Department of the United States Air Force, Department of Defense.

ACTION: Amended notice of intent.

SUMMARY: The Air Force issued a Notice of Intent to Prepare an Environmental Impact Statement for the Air Force Reserve Command F-35A Operational Beddown Environmental Impact Statement (Vol. 83, No. 56 Federal Register, 12568, March 22, 2018) and is now being amended to correct the address for courier delivered public scoping comments.

DATES: The 10-working day resubmittal period begins on the date of this notice.

ADDRESSES: The address for courier delivered (e.g., Federal Express or United Parcel Service) public scoping comments is: AFCEC/CZN, (ATTN: Mr. Hamid Kamalpour), 3515 S. General McMullen Drive, Suite 155, San Antonio, Texas 78226-1710.

The address for U.S. Postal Service mail delivery is the same as initially published on March 22, 2018: AFCEC/CZN, (ATTN: Mr. Hamid Kamalpour), 2261 Hughes Avenue, Suite 155, JBSA-Lackland Air Force Base, Texas 78236-9853.

Both the courier address and U.S. Postal Service address are listed on the project website (www.AFRC-F35A-Beddown.com), which also provides more information on the Environmental Impact Statement and related materials.

SUPPLEMENTARY INFORMATION: The Notice of Intent provided the public with instructions on how to submit scoping comments to the Air Force in consideration of the four alternatives being considered, which include: Homestead Air Reserve Base, Homestead FL; Naval Air Station Fort Worth Joint Reserve Base, Fort Worth, TX; Davis-Monthan Air Force Base, Tucson, AZ; and Whiteman Air Force Base, Knob Noster, MO. The Air Force has subsequently been made aware that the address provided for submittal of courier delivered public scoping comments (e.g., Federal Express or United Parcel Service) was incorrect. This notice corrects the address for courier delivered public scoping comments and provides 10-working days for the interested public to submit scoping comments. During this 10-working day period, the Air Force is offering multiple ways in which comments can be submitted. Comments can be provided through the project website (www.AFRC-F35A-Beddown.com), via email to the email address provided below and via regular mail or via courier to the addresses listed below. The website also provides additional information on the Environmental Impact Statement and related materials. The Air Force will consider all scoping comments submitted.

Henry Williams,
Acting Air Force Federal Register Liaison Officer.

[FR Doc. 2018-17324 Filed 8-10-18; 8:45 am]

BILLING CODE 5001-10-P